DEPARTMENT OF THE INTERIOR

Geological Survey

Technology Transfer Act of 1986

AGENCY: U.S. Geological Survey, Interior.

ACTION: Notice of proposed Cooperative Research and Development Agreement (CRADA) negotiations.

SUMMARY: The United States Geological Survey (USGS) is contemplating entering into a Cooperative Research and Development Agreement (CRADA) with Counterpart International for the development of monitoring and assessment methodologies for natural resource conservation.

INQUIRIES: If any other parties are interested in similar activities with the USGS, please contact Byron K. Williams, U.S. Geological Survey, MS 303, 12201 Sunrise Valley Drive, Reston, VA 20192, telephone (703) 648-4260.

SUPPLEMENTARY INFORMATION: This notice is submitted to meet the USGS requirements stipulated in Survey Manual Chapter 500.20.

Dated: September 6, 2001.
Dennis B. Fenn,
Associate Director for Biology.

[FR Doc. 01-25110 Filed 10-5-01; 8:45 am]

BILLING CODE 4310-Y7-M